DEPARTMENT OF ENERGY

Federal Energy Regulatory Commission

Combined Notice of Filings #2

Take notice that the Commission received the following electric rate filings:

Docket Numbers: ER16-341-001; ER16-343-001; ER16-498-001; ER16-499-001; ER16-500-001; ER16-645-001.

Applicants: RE Astoria LLC, RE Astoria 2 LLC, RE Mustang LLC, RE Mustang 3 LLC, RE Mustang 4 LLC, RE Barren Ridge 1 LLC.

Description: Supplement to June 28, 2016 Triennial Market Power Analysis for Southwest Region of the Recurrent MBR Sellers.

Filed Date: 9/14/16.

Accession Number: 20160914-5102.

Comments Due: 5 p.m. ET 10/5/16.

Docket Numbers: ER16-2591-000.

Applicants: Southern California Edison Company.

Description: Section 205(d) Rate Filing: GIA and Distribution Service Agreement Commerce Refuse to Energy Authority to be effective 1/1/2017.

Filed Date: 9/14/16.

Accession Number: 20160914-5077.

Comments Due: 5 p.m. ET 10/5/16.

Docket Numbers: ER16-2592-000.

Applicants: Southern California Edison Company.

Description: Section 205(d) Rate Filing: Amended SGIA with SS San Antonio West, LLC to be effective 11/15/2016.

Filed Date: 9/14/16.

Accession Number: 20160914-5094.

Comments Due: 5 p.m. ET 10/5/16.

Docket Numbers: ER16-2593-000.

Applicants: Land O'Lakes, Inc.

Description: Compliance filing: Land O Lakes Revised Tariff Filing to be effective 11/13/2016.

Filed Date: 9/14/16.

Accession Number: 20160914-5104.

Comments Due: 5 p.m. ET 10/5/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 14, 2016.
Nathaniel J. Davis, Sr.,
Deputy Secretary.

[FR Doc. 2016-22646 Filed 9-20-16; 8:45 am]

BILLING CODE 6717-01-P